DEPARTMENT OF LABOR

Employment and Training Administration

Notice of Determinations Regarding Eligibility To Apply for Trade Adjustment Assistance

In accordance with the Section 223 (19 U.S.C. 2273) of the Trade Act of 1974 (19 U.S.C. 2271, et seq.) (“Act”), as amended, the Department of Labor herein presents summaries of determinations regarding eligibility to apply for trade adjustment assistance under Chapter 2 of the Act (“TAA”) for workers by (TA-W) number issued during the period of July 1, 2019 through July 31, 2019. (This Notice primarily follows the language of the Trade Act. In some places however, changes such as the inclusion of subheadings, a reorganization of language, or “and,” “or,” or other words are added for clarification.)

Section 222(a)—Workers of a Primary Firm

In order for an affirmative determination to be made for workers of a primary firm and a certification issued regarding eligibility to apply for TAA, the group eligibility requirements under Section 222(a) of the Act (19 U.S.C. 2272(a)) must be met, as follows:

(1) The first criterion (set forth in Section 222(a)(1) of the Act, 19 U.S.C. 2272(a)(1)) is that a significant number or proportion of the workers in such workers' firm (or “such firm”) have become totally or partially separated, or are threatened to become totally or partially separated;

AND (2(A) or 2(B) below)

(2) The second criterion (set forth in Section 222(a)(2) of the Act, 19 U.S.C. 2272(a)(2)) may be satisfied by either (A) the Increased Imports Path, or (B) the Shift in Production or Services to a Foreign Country Path/Acquisition of Articles or Services from a Foreign Country Path, as follows:

(A) Increased Imports Path:

(i) The sales or production, or both, of such firm, have decreased absolutely;

AND (ii and iii below)

(ii) (I) imports of articles or services like or directly competitive with articles produced or services supplied by such firm have increased; OR

(II)(aa) imports of articles like or directly competitive with articles into which one or more component parts produced by such firm are directly incorporated, have increased; OR

(II)(bb) imports of articles like or directly competitive with articles which are produced directly using the services supplied by such firm, have increased; OR

(III) imports of articles directly incorporating one or more component parts produced outside the United States that are like or directly competitive with imports of articles incorporating one or more component parts produced by such firm have increased;

AND

(iii) the increase in imports described in clause (ii) contributed importantly to such workers' separation or threat of separation and to the decline in the sales or production of such firm; OR

(B) Shift in Production or Services to a Foreign Country Path OR Acquisition of Articles or Services from a Foreign Country Path:

(i) (I) There has been a shift by such workers' firm to a foreign country in the production of articles or the supply of services like or directly competitive with articles which are produced or services which are supplied by such firm; OR

(II) such workers' firm has acquired from a foreign country articles or services that are like or directly competitive with articles which are produced or services which are supplied by such firm;

AND

(ii) the shift described in clause (i)(I) or the acquisition of articles or services described in clause (i)(II) contributed importantly to such workers' separation or threat of separation.

Section 222(b)—Adversely Affected Secondary Workers

In order for an affirmative determination to be made for adversely affected secondary workers of a firm and a certification issued regarding eligibility to apply for TAA, the group eligibility requirements of Section 222(b) of the Act (19 U.S.C. 2272(b)) must be met, as follows:

(1) A significant number or proportion of the workers in the workers' firm or an appropriate subdivision of the firm have become totally or partially separated, or are threatened to become totally or partially separated;

AND

(2) the workers' firm is a supplier or downstream producer to a firm that employed a group of workers who received a certification of eligibility under Section 222(a) of the Act (19 U.S.C. 2272(a)), and such supply or production is related to the article or service that was the basis for such certification (as defined in subsection 222(c)(3) and (4) of the Act (19 U.S.C. 2272(c)(3) and (4));

AND

(3) either—

(A) the workers' firm is a supplier and the component parts it supplied to the firm described in paragraph (2) accounted for at least 20 percent of the production or sales of the workers' firm; OR

(B) a loss of business by the workers' firm with the firm described in paragraph (2) contributed importantly to the workers' separation or threat of separation determined under paragraph (1).

Section 222(e)—Firms Identified by the International Trade Commission

In order for an affirmative determination to be made for adversely affected workers in firms identified by the International Trade Commission and a certification issued regarding eligibility to apply for TAA, the group eligibility requirements of Section 222(e) of the Act (19 U.S.C. 2272(e))must be met, by following criteria (1), (2), and (3) as follows:

(1) The workers' firm is publicly identified by name by the International Trade Commission as a member of a domestic industry in an investigation resulting in—

(A) an affirmative determination of serious injury or threat thereof under section 202(b)(1) of the Act (19 U.S.C. 2252(b)(1)); OR

(B) an affirmative determination of market disruption or threat thereof under section 421(b)(1) of the Act (19 U.S.C. 2436(b)(1)); OR

(C) an affirmative final determination of material injury or threat thereof under section 705(b)(1)(A) or 735(b)(1)(A) of the Tariff Act of 1930 (19 U.S.C. 1671d(b)(1)(A) and 1673d(b)(1)(A));

AND

(2) the petition is filed during the 1-year period beginning on the date on which—

(A) a summary of the report submitted to the President by the International Trade Commission under section 202(f)(1) of the Trade Act (19 U.S.C. 2252(f)(1)) with respect to the affirmative determination described in paragraph (1)(A) is published in the Federal Register under section 202(f)(3) (19 U.S.C. 2252(f)(3)); OR

(B) notice of an affirmative determination described in subparagraph (B) or (C)of paragraph (1) is published in the Federal Register;

AND

(3) the workers have become totally or partially separated from the workers' firm within—

(A) the 1-year period described in paragraph (2); OR

(B) notwithstanding section 223(b) of the Act (19 U.S.C. 2273(b)), the 1-year period preceding the 1-year period described in paragraph (2).

Affirmative Determinations for Trade Adjustment Assistance

The following certifications have been issued. The date following the company name and location of each determination references the impact date for all workers of such determination.

The following certifications have been issued. The requirements of Section 222(a)(2)(A) (Increased Imports Path) of the Trade Act have been met.

TA-W No. | Subject firm | Location | Impact date
94,587 | Ford Motor Company, Flat Rock Assembly Plant, Vehicle Operations | Flat Rock, MI | March 4, 2018.
94,685 | Alorica Inc | Fredericksburg, VA | April 2, 2018.
94,787 | HBD/Thermoid, Inc., HBD Industries, Inc., Jerman Personnel Services, Inc | Elgin, SC | May 7, 2018.
94,791 | ABB, Inc., Power Grids Transformers, ABB Cary, Pontoon Solutions, Securitas USA, etc | South Boston, VA | May 8, 2018.
94,817 | Arconic Inc., Arconic Technology Center, Apex Life Sciences, Inc., MBO Partners, etc | New Kensington, PA | May 16, 2018.
94,844 | Unilin North America, LLC, Mohawk Industries, Inc | Danville, VA | May 23, 2018.
94,887 | Gear Design and Manufacturing, Driveline Business Unit, American Axle &amp; Manufacturing Holdings (AAM), etc | North Charleston, SC | June 10, 2018.

The following certifications have been issued. The requirements of Section 222(a)(2)(B) (Shift in Production or Services to a Foreign Country Path or Acquisition of Articles or Services from a Foreign Country Path) of the Trade Act have been met.

TA-W No. | Subject firm | Location | Impact date
94,449 | Stoneridge, American Contractors Group, Microtech Staffing, Kelly Services, etc | Canton, MA | January 9, 2018.
94,594 | New Holland Lingerie, LLC, Tegra LLC | New Holland, PA | March 5, 2018.
94,620 | Cotiviti USA, LLC, Information Technology Operations, Cotiviti Domestic Holdings, etc | Wilton, CT | March 13, 2018.
94,621 | Lumina Datamatic, Inc., Datamatics Global Services LTD | Plymouth, MA | March 13, 2018.
94,637 | BET Information Systems Inc. D/B/A Survey.com | Portland, OR | March 15, 2018.
94,638 | The TJX Companies, Inc., Corporate Technology Center, Bridge Room | New Albany, OH | March 15, 2018.
94,659 | TTEC Healthcare Solutions, Inc., TTEC Holdings, Inc | Morrilton, AR | March 25, 2018.
94,669 | Gannett Satellite Information Network, LLC, Gannett Technology, Gannett Co., Insight Global, Teksystems, Modis, etc | McLean, VA | March 27, 2018.
94,675 | Wells Fargo Equipment Finance (WFEF)—Early Stage Collections, Wells Fargo Commercial Capital (WFCC), Wells Fargo Bank N.A | Macon, GA | March 28, 2018.
94,700 | Payless ShoeSource Worldwide, Inc., Human Resources Team, Payless, Inc | Topeka, KS | April 4, 2018.
94,709 | Cardone Industries, Inc., Support Services Staff, 5501 Whitaker Avenue | Philadelphia, PA | July 22, 2018.
94,709A | Cardone Industries, Inc., Support Services Staff, 5660 Rising Sun Avenue | Philadelphia, PA | April 8, 2018.
94,727 | HSN, Inc., IT Service Center/Helpdesk, QVC, Inc | St. Petersburg, FL | April 11, 2018
94,731 | State Street Corporation, USIS Client Operations Reporting Group, 1 Heritage Drive | North Quincy, MA | March 29, 2018.
94,731A | State Street Corporation, USIS Client Operations Reporting Group, 200 Newport Avenue | North Quincy, MA | March 29, 2018.
94,731B | State Street Corporation, USIS Client Operations Reporting Group, 1776 Heritage Drive | North Quincy, MA | March 29, 2018.
94,731C | State Street Corporation, USIS Client Operations Reporting Group, 1200 Crown Colony Drive | North Quincy, MA | March 29, 2018.
94,750 | K&K Clothing, Inc | Los Angeles, CA | April 23, 2018.
94,751 | AMETEK Instrumentation Systems, Instrumentation and Specialty Controls Division | Warrenville, IL | April 19, 2018.
94,761 | Isringhausen, Manpower, Employment Group (EG Workforce Solutions) | Galesburg, MI | April 26, 2018.
94,768 | Renovate America, Inc., Thrivepoint Financial Holdings, Eastridge, Robert Half, Aspyre Staffing | San Diego, CA | April 29, 2018.
94,779 | State Street Corporation, Investment Management Services Division | North Quincy, MA | May 2, 2018.
94,800 | Ocwen Loan Servicing LLC, Ocwen Financial Corporation, CSSvSource | Fort Washington, PA | May 10, 2018.
94,801 | Ocwen Loan Servicing LLC, Ocwen Financial Corporation, CSSvSource | Orlando, FL | May 10, 2018.
94,802 | Ocwen Loan Servicing LLC, Ocwen Financial Corporation, CSSvSource | West Palm Beach, FL | May 10, 2018.
94,803 | Oracle America, Inc., Product Development, Oracle Corporation, Vanderhouwen Staffing Agency | Portland, OR | May 10, 2018.
94,808 | Lester, Inc. | East Haven, CT | May 13, 2018.
94,814 | American Technical Ceramics Corp., JAX, AVX Corporation, Remedy Staffing Agency, Randstad US | Jacksonville, FL | February 13, 2018.
94,818 | Interplex Daystar, Inc., Labor Solutions, Labor Temps, Search America, Collabera | Franklin Park, IL | May 16, 2018.
94,819 | KVI, LLC D/B/A Mectra Labs, Inc., Key Surgical, LLC | Bloomfield, IN | May 17, 2018.
94,829 | Standard Insurance Company (SIC), The Standard Life Insurance Company of New York (SNY), Volt, Robert Half | Portland, OR | May 20, 2018.
94,835 | Citizens Telecom Services Co LLC, Frontier Communications Technical Support Organization, etc | Rochester, NY | May 21, 2018.
94,848 | David's Bridal, Inc., West 40th Street Design Studio, DB Midco, Inc | New York, NY | May 26, 2018.
94,852 | ZPower LLC, Aerotek, Select Staffing, Express Staffing, Volt | Camarillo, CA | May 24, 2018.
94,856 | Finastra USA Corporation, Finastra Technology, Customer Support, Beacon Hill Staffing Group, etc | Plano, TX | May 29, 2018.
94,857 | EMD Millipore, MilliporeSigma, Merck KGaA, Randstadt Sourceright | Burlington, MA | May 30, 2018.
94,862 | Breg, Inc., Aerotek, Stride Staffing Solutions | Grand Prairie, TX | May 23, 2018.
94,865 | Klockner Pentaplast of America Inc., KP International Holding GmbH, Accounting Unit, Robert-Half | Gordonville, VA | May 31, 2018.
94,866 | Swimways Corporation, Spin Master Corp, Aerotek, Randstad, Allied Forces | Virginia Beach, VA | May 31, 2018.
94,867 | Qualcomm Technologies, Inc., Qualcomm, Inc., IPS Hardware Group | San Diego, CA | June 3, 2018.
94,869 | State Street Corporation, Retiree Service Division | Jacksonville, FL | June 3, 2018.
94,872 | Kern-Liebers Texas, Inc., Kern-Liebers USA, Inc | Pharr, TX | June 4, 2018.
94,873 | Ossur Americas, Adecco NA, Kelly Services | Albion, MI | June 4, 2018.
94,875 | Celestica LLC, Adecco | San Jose, CA | June 5, 2018.
94,878 | Kimberly-Clark Corporation, Fullerton-Tissue, Guidant Global, CR Meyer, Circle Controls, etc | Fullerton, CA | June 5, 2018.
94,885 | Ricoh USA, Inc., Order Management, Ricoh Americas Holdings, Inc | Richmond, VA | June 7, 2018.
94,885A | Ricoh USA, Inc., Order Management, Ricoh Americas Holdings, Inc | Sterling, VA | June 7, 2018.
94,888 | Gunderson LLC, The Greenbrier Companies, Aerotek, Tradesmen International, etc | Portland, OR | January 24, 2019.
94,891 | International Automotive Components (IAC), Aerotek | Iowa City, IA | July 13, 2019.
94,894 | Transaction Applications Group, Inc., Insurance Vertical LifeSys Development and Support, NTT Data, etc | Lincoln, NE | June 12, 2018.
94,900 | Nuance Communications, Inc., Chat Customer Support Team, Nuance Enterprise Solutions &amp; Services | Agoura Hills, CA | June 13, 2018.
94,907 | Liberty Mutual Group Inc., Professional Collaboration Team, LMHC Massachusetts Holdings Inc | Springfield, MA | June 14, 2018.
94,908 | Smartfocus US Inc., PivotLink | Bellevue, WA | June 12, 2018.
94,910 | American Electric Power Service Corporation, Accounting and Tax Transaction Processing, American Electric Power Company | Tulsa, OK | June 17, 2018.
94,914 | BrassCraft Manufacturing Co., Masco Manufacturing Company, Aerotek, Accu Staffing, Integrity | Swedesboro, NJ | June 18, 2018.
94,932 | DunAn Precision Manufacturing Inc., DunAn Precision, LL Roberts Company DBA Key Business Solutions, etc | Memphis, TN | June 24, 2018.
94,934 | Kimberly-Clark Corporation, Personal Care, SEC, Holman Distribution, First Staff | Conway, AR | June 24, 2018.
94,935 | Providence Health & Services-Washington, Supply Chain Management, Accountemps (Robert Half) | Portland, OR | June 24, 2018.
94,935A | Providence Health & Services-Washington, Supply Chain Management, Accountemps (Robert Half) | Medford, OR | June 24, 2018.
94,938 | Philips Healthcare, Invivo Manufacturing Division, Randstad Sourceright | Gainesville, FL | June 25, 2018.
94,954 | Union Underwear Co., Inc. dba Fruit of the Loom, Information Technology, Corporate Headquarters, Berkshire Hathaway, etc | Bowling Green, KY | June 27, 2018.
94,959 | Semco Instruments, Inc., Quantum Staffing, Express Employment, Triad Technical Staffing, Aerotek | Valencia, CA | July 1, 2018.
94,965 | AT&T Business-Global Operations & Services, Delivery Excellence-Global Product Ordering, Business VOIP Team, AT&T, etc | Grand Rapids, MI | July 2, 2018.
94,970 | Hamon Deltak, Inc., Hamon Corporation, Hamon Holdings Corporation, Account Temps | Plymouth, MN | July 3, 2018.
94,982 | Eaton Corporation, Vehicle Group North America, Bartech | Belmond, IA | February 2, 2019.
94,982A | Midwest Janitorial Service, Inc., Houghton International Inc., etc., Securitas, Fastenal Company, Advanced Technology Services (ATS), Eaton | Belmond, IA | July 11, 2018.

The following certifications have been issued. The requirements of Section 222(b) (supplier to a firm whose workers are certified eligible to apply for TAA) of the Trade Act have been met.

TA-W No. | Subject firm | Location | Impact date
94,567 | GM Technical Center, General Motors, RCO Engineering, Populous, Tech Talenta, Aerotek, etc | Warren, MI | February 26, 2018.
94,697 | Integrated Manufacturing and Assembly, Detroit Davison Plant, Seating Division, Lear Corporation | Detroit, MI | April 4, 2018.
94,790 | FTE Automotive, USA, Inc., Valeo USA, Inc | Auburn Hills, MI | May 7, 2018.
94,880 | Nitto Automotive Inc., NITTO Inc., Hunter Hamilton, Aerotek, Kelly Services, Prostaff, Robert Half | Kansas City, MO | June 5, 2018.

The following certifications have been issued. The requirements of Section 222(b) (downstream producer to a firm whose workers are certified eligible to apply for TAA) of the Trade Act have been met.

TA-W No. | Subject firm | Location | Impact date
94,770 | Falcon Transport Company, GD Leasing of Indiana | Youngstown, OH | May 1, 2018.

The following certifications have been issued. The requirements of Section 222(e) (firms identified by the International Trade Commission) of the Trade Act have been met.

TA-W No. | Subject firm | Location | Impact date
94,407 | Core Pipe Products, Inc., Gerlin, Inc., Aerotek, SureStaff, Inc., Crown Services | Carol Stream, IL | June 4, 2017.

Negative Determinations for Worker Adjustment Assistance

In the following cases, the investigation revealed that the eligibility criteria for TAA have not been met for the reasons specified.

The investigation revealed that the criteria under paragraphs (a)(2)(A)(i) (decline in sales or production, or both), or (a)(2)(B) (shift in production or services to a foreign country or acquisition of articles or services from a foreign country), (b)(2) (supplier to a firm whose workers are certified eligible to apply for TAA or downstream producer to a firm whose workers are certified eligible to apply for TAA), and (e) (International Trade Commission) of section 222 have not been met.

TA-W No. | Subject firm | Location | Impact date
94,593 | Customer Care & After Care (CCA) West Chester Processing Center, General Motors Company | West Chester, OH
94,603 | Planar Systems, Inc., Elwood, Express, and Volt | Hillsboro, OR

The investigation revealed that the criteria under paragraphs(a)(2)(A) (increased imports), (a)(2)(B) (shift in production or services to a foreign country or acquisition of articles or services from a foreign country), (b)(2) (supplier to a firm whose workers are certified eligible to apply for TAA or downstream producer to a firm whose workers are certified eligible to apply for TAA), and (e) (International Trade Commission) of section 222 have not been met.

TA-W No. | Subject firm | Location | Impact date
94,516 | Burke Industries (Delaware), LLC, Mannington Mills, Inc., Randstad | San Jose, CA
94,578 | Michigan Bell Telephone Company, AT&T Teleholdings, Digital, Retail, & Care, etc | Kalamazoo, MI
94,578A | Wisconsin Bell, Inc., AT&T Teleholdings, Digital, Retail, & Care, etc | Appleton, WI
94,578B | Indiana Bell Telephone Company Incorporated, AT&T Teleholdings, Digital, Retail, & Care, etc | Indianapolis, IN
94,578C | AT&T Services, Inc., AT&T Inc. & Teleholdings, Inc., AT&T Global Billing Resolution Team, etc | Syracuse, NY
94,578D | AT&T Services, Inc., AT&T, Inc. AT&T Teleholdings, Inc., 911 Network Operations Center, etc | Meridian, CT
94,660 | WSM Manufacturing, LLC, Warne Scope Mounts, Randstad Staffing, Northwest Staffing, etc | Tualatin, OR
94,699 | The Mosaic Company, BCforward, CLA, Deloitte, Ernst & Young, iMPact Business Group, etc | Plymouth, MN
94,707 | Flint CPS Inks North America LLC, Qualified Staffing | Weyers Cave, VA
94,752 | Cypress Creek Renewables, LLC | Santa Monica, CA
94,754 | iPacesetters, LLC., Teleservices Solution Holding, LLC | Weston, WV
94,759 | Conduent Education Services, LLC, ACS Education Services, Conduent Business Services, LLC | Long Beach, CA

Determinations Terminating Investigations of Petitions for Trade Adjustment Assistance

After notice of the petitions was published in the Federal Register and on the Department's website, as required by Section 221 of the Act (19 U.S.C. 2271), the Department initiated investigations of these petitions.

The following determinations terminating investigations were issued because the petitioner has requested that the petition be withdrawn.

TA-W No. | Subject firm | Location | Impact date
94,926 | Beyondsoft Corporation | Vancouver, WA
94,949 | Fuller Packaging, Inc | Central Falls, RI

The following determinations terminating investigations were issued in cases where the petition regarding the investigation has been deemed invalid.

TA-W No. | Subject firm | Location | Impact date
94,860 | AT&T Services, IT Voice Call Center Operations and Application Development | Hoffman Estates, IL

The following determinations terminating investigations were issued because the worker group on whose behalf the petition was filed is covered under an existing certification.

TA-W No. | Subject firm | Location | Impact date
94,676 | Wells Fargo Equipment Finance (WFEF)—Early Stage Collections, Wells Fargo Commercial Capital (WFCC), Wells Fargo Bank N.A | Macon, GA
94,678 | Wells Fargo Equipment Finance (WFEF)—Early Stage Collections, Wells Fargo Commercial Capital (WFCC), Wells Fargo Bank N.A | Macon, GA
94,683 | Steelcase Inc., Administrative Services Group, Design Tex | Grand Rapids, MI
94,798 | Fargo Assembly Company, Electrical Components International Inc | Bethany, MO
94,925 | American Electric Power Service Corporation, Accounting and Tax Transaction Processing, American Electric Power Company | Tulsa, OK
94,974 | Leased Workers from Apex Systems, Eliassen Group, and TEKsystems, Lowes Home Centers, LLC, Lowes Companies, Inc | Kirkland, WA
94,988 | Ocwen Loan Servicing | Fort Washington, PA

The following determinations terminating investigations were issued because the petitioning group of workers is covered by an earlier petition that is the subject of an ongoing investigation for which a determination has not yet been issued.

TA-W No. | Subject firm | Location | Impact date
94,944 | AIG, Corporate and Investments IT Department | New York, NY

I hereby certify that the aforementioned determinations were issued during the period of July 1, 2019 through July 31, 2019. These determinations are available on the Department's website https://www.doleta.gov/tradeact/petitioners/taa_search_form.cfm under the searchable listing determinations or by calling the Office of Trade Adjustment Assistance toll free at 888-365-6822.

Signed at Washington DC, this 6th day of August 2019.
Hope D. Kinglock,
Certifying Officer, Office of Trade Adjustment Assistance.

[FR Doc. 2019-18621 Filed 8-28-19; 8:45 am]

BILLING CODE 4510-FN-P